DEPARTMENT OF TRANSPORTATION

Federal Aviation Administration

Research, Engineering and Development Advisory Committee

Pursuant to section 10(A)(2) of the Federal Advisory Committee Act (Pub. L. 92-463; 5 U.S.C. App. 2), notice is hereby given of a meeting of the FAA Research, Engineering and Development (R,E&D) Advisory Committee.

AGENCY: Federal Aviation Administration, DOT.

ACTION: Notice of Meeting.

Name: Research, Engineering & Development Advisory Committee.

Time and Date: October 09, 2014—9:30 a.m. to 4:00 p.m.

Place: Federal Aviation Administration, 800 Independence Avenue SW.—Round Room (10th Floor), Washington, DC 20591.

Purpose: The meeting agenda will include receiving from the Committee guidance for FAA's research and development investments in the areas of air traffic services, airports, aircraft safety, human factors and environment and energy. Attendance is open to the interested public but seating is limited. Persons wishing to attend the meeting or obtain information should contact Chinita A. Roundtree-Coleman at (609) 485-7149 or chinita.roundtree-coleman@faa.gov. Members of the public may present a written statement to the Committee at any time.

Issued in Washington, DC, on September 8, 2014.
Chinita A. Roundtree-Coleman,
Computer Specialist.

[FR Doc. 2014-22381 Filed 9-18-14; 8:45 am]

BILLING CODE 4910-13-P